DEPARTMENT OF HOMELAND SECURITY

Coast Guard

33 CFR Part 117

[Docket No. USCG-2011-0564]

Drawbridge Operation Regulation; Black Warrior River, Demopolis, Marengo County, AL

AGENCY: Coast Guard, DHS.

ACTION: Notice of temporary deviation from regulations.

SUMMARY: The Commander, Eighth Coast Guard District, has issued a temporary deviation from the regulation governing the operation of the Yo-Yo vertical lift span bridge across the Black Warrior River, mile 219.0, at Demopolis, AL. The deviation is necessary for tie replacement and maintenance to be performed on the bridge. This deviation allows the bridge to remain closed to navigation from 8 a.m. through 10:30 a.m. and then from noon through 2:30 p.m. each day for 6 consecutive days.

DATES: This deviation is effective from 8 a.m. on Wednesday, July 14, 2011 through 2:30 p.m. on Wednesday, July 20, 2011.

ADDRESSES: Documents mentioned in this preamble as being available in the docket are part of docket USCG-2011-0564 and are available online by going to http://www.regulations.gov, inserting USCG-2011-0564 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Jim Wetherington, Bridge Administration Branch, Coast Guard; telephone 504-671-2128, e-mail james.r.wetherington@uscg.mil. If you have questions on viewing the docket, call Renee V. Wright, Program Manager, Docket Operations, telephone 202-366-9826.

SUPPLEMENTARY INFORMATION: The Alabama and Gulf Coast Railway has requested a temporary deviation from the operating schedule of the vertical lift span bridge across the Black Warrior River, mile 219.0, in Demopolis, Marengo County, AL. The vertical clearance of the bridge in the closed-to-navigation position is 18 feet above Mean High Water.

In accordance with 33 CFR 117.5, the vertical lift span of the bridge shall open on signal for the passage of vessels. This deviation allows the vertical lift span of the bridge to remain closed to navigational traffic from 8 a.m. until 10:30 a.m. and from noon until 2:30 p.m. each day from Thursday, July 14, 2011 through 2:30 p.m. on Wednesday, July 20, 2011. The closure is necessary to perform tie maintenance and replacement. This maintenance is essential for the continued operation of the bridge. Notices will be published in the Eighth Coast Guard District Local Notice to Mariners and will be broadcast via the Coast Guard Broadcast Notice to Mariners System.

No Alternate routes are available for the passage of vessels; however, the closure was coordinated with waterway interests who have indicated that they will be able to adjust their operations around the proposed work schedule. Small vessels may pass under the bridge while in the closed-to-navigation position provided caution is exercised.

Due to prior experience and coordination with waterway users, it has been determined that this closure will not have a significant effect on vessels that use the waterway.

In accordance with 33 CFR 117.35(e), the drawbridge must return to its regular operating schedule immediately at the end of the designated time period. This deviation from the operating regulations is authorized under 33 CFR 117.35.

Dated: June 21, 2011.
David M. Frank,
Chief, Bridge Administration Branch, U.S. Coast Guard.

[FR Doc. 2011-17106 Filed 7-6-11; 8:45 am]

BILLING CODE 9110-04-P